DEPARTMENT OF THE TREASURY

Submission for OMB Review; Comment Request

April 2, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before May 10, 2007 to be assured of consideration.

Internal Revenue Service (IRS)

OMB Number: 1545-0990.

Type of Review: Revision.

Title: Form 8610, Annual Low-Income Housing Credit Agencies Report, Schedule A (Form 8610), Carryover Allocation of Low-Income Housing Credit.

Form: 8610.

Description: State housing agencies file Form 8610 to transmit copies of Form 8609, Schedule(s) A (Form 8610), and binding agreements and election statements to the IRS. The Agencies use Schedule A (Form 8610) to report certain information contained in carryover allocation documents to the IRS.

Respondents: State, local, or tribal governments.

Estimated Total Burden Hours: 5,599 hours.

OMB Number: 1545-1714.

Type of Review: Extension.

Title: Tip Reporting Alternative Commitment (TRAC) for most industries.

Description: Information is required by the Internal Revenue Service in its tax compliance efforts to assist employers and their employees in understanding and complying with section 6053(a), which requires employees to report all their tips monthly to their employers.

Respondents: Businesses and other for-profit institutions.

Estimated Total Burden Hours: 4,877 hours.

OMB Number: 1545-0004.

Type of Review: Revision.

Title: Determination of Worker Status for Purposes of Federal Employment Taxes and Income Tax Withholding.

Form: 2587.

Description: Form SS-8 is used by employers and workers to furnish information to IRS in order to obtain a determination as to whether a worker is an employee for purposes of Federal employment taxes and income tax withholding. IRS uses this information to make the determination.

Respondents: Businesses or other for-profit institutions.

Estimated Total Burden Hours: 101,464 hours.

OMB Number: 1545-1717.

Type of Review: Extension.

Title: Tip Rate Determination Agreement (TRDA) for Most Industries.

Description: Information is required by the Internal Revenue Service in its tax compliance efforts to assist employers and their employees in understanding and complying with section 6053(a), which requires employees to report all their tips monthly to their employers.

Respondents: Businesses or other for-profit institutions.

Estimated Total Burden Hours: 1,897 hours.

OMB Number: 1545-1588.

Type of Review: Extension.

Title: REG-209682-94 (Final) Adjustments Following Sales of Partnership Interests.

Description: Partnerships, with a section 754 election in effect, are required to adjust the basis of partnership property following certain transfers of partnership interests. The regulations require the partnership to attach a statement to its partnership return indicating the adjustment and how it was allocated among the partnership property.

Respondents: Businesses or other for-profit institutions.

Estimated Total Burden Hours: 904,000 hours.

OMB Number: 1545-1529.

Type of Review: Extension.

Title: Tip Reporting Alternative Commitment (Hairstyling Industry).

Description: Information is required by the Internal Revenue Service in its compliance efforts to assist employers and their employees in understanding and complying with section 6053(a), which requires employees to report all their tips monthly to their employers.

Respondents: Businesses or other for-profit institutions.

Estimated Total Burden Hours: 43,073 hours.

OMB Number: 1545-0057.

Type of Review: Extension.

Title: Application for Recognition of Exemption Under Section 501(a).

Form: 1024.

Description: Organizations seeking exemption from Federal income tax under Internal Revenue Code section 501(a) as an organization described in most paragraphs of section 501(c) must use Form 1024 to apply for exemption. The information collected is used to determine whether the organization qualifies for tax-exempt status.

Respondents: Businesses or other for-profit institutions.

Estimated Total Burden Hours: 291,542 hours.

OMB Number: 1545-1572.

Type of Review: Extension.

Title: REG-120200-97 (Final) Election Not to Apply Look-Back Methods in De Minimis Cases.

Description: The regulations provides rules for electing the benefits of section 460(b)(6) regarding not applying look-back methods to long-term contracts in de minimis cases.

Respondents: Businesses or other for-profit institutions.

Estimated Total Burden Hours: 4,000 hours.

OMB Number: 1545-1870.

Type of Review: Extension.

Title: REG-125638-01 (Final) Guidance Regarding Deduction and Capitalization of Expenditures.

Description: The information required to be retained by taxpayers will constitute sufficient documentation for purposes of substantiating a deduction. The information will be used by the agency on audit to determine the taxpayer's entitlement to a deduction. The respondents include taxpayers who engage in certain transactions involving the acquisition of a trade or business or an ownership interest in a legal entity.

Respondents: Businesses or other for-profit institutions.

Estimated Total Burden Hours: 3,000 hours.

OMB Number: 1545-2036.

Type of Review: Extension.

Title: Taxation and Reporting of REIT Excess Inclusion Income.

Description: The notice requires certain REITs, partnerships and other entities that have excess inclusion income to disclose the amount and character of such income allocable to their record interest owners. The record interest owners need the information to properly report and pay taxes on such income.

Respondents: Businesses or other for-profit institutions.

Estimated Total Burden Hours: 100 hours.

OMB Number: 1545-0582.

Type of Review: Revision.

Title: Corporation Application for Tentative Refund.

Form: 1139.

Description: Form 1139 is filed by corporations that expect to have a net operating loss, net capital loss, or unused general business credits carried back to a prior tax year. IRS uses Form 1139 to determine if the amount of the loss or unused credits is proper.

Respondents: Businesses or other for-profit institutions.

Estimated Total Burden Hours: 132,750 hours.

Clearance Officer:Glenn P. Kirkland, (202) 622-3428, Internal Revenue Service, Room 6516, 1111 Constitution Avenue, NW., Washington, DC 20224.

OMB Reviewer:Alexander T. Hunt, (202) 395-7316, Office of Management and Budget, Room 10235, New Executive Office Building, Washington, DC 20503.

Robert Dahl,
Treasury PRA Clearance Officer.

[FR Doc. E7-6744 Filed 4-9-07; 8:45 am]

BILLING CODE 4830-01-P